DEPARTMENT OF HOMELAND SECURITY

Federal Emergency Management Agency

[Docket ID FEMA-2015-0001]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 6, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: April 23, 2015.
Roy E. Wright,
Deputy Associate Administrator for Mitigation, Department of Homeland Security, Federal Emergency Management Agency.

Community | Community map repository address
Hendry County, Florida, and Incorporated Areas
Docket No.: FEMA-B-1353
City of Clewiston | Community Development Department, 121 Central Avenue, Clewiston, FL 33440.
City of La Belle | City Hall, 481 West Hickpochee Avenue, LaBelle, FL 33935.
Unincorporated Areas of Hendry County | Hendry County Building Department, 640 South Main Street, LaBelle, FL 33935.
Waldo County, Maine (All Jurisdictions)
Docket No.: FEMA-B-1415
City of Belfast | City Hall, 131 Church Street, Belfast, ME 04915.
Lime Island | Land Use Planning Commission, Maine Department of Agriculture, Conservation and Forestry, 18 Elkins Lane/Harlow Building, 4th floor, State House Station 22, Augusta, ME 04333.
Little Bermuda Island | Land Use Planning Commission, Maine Department of Agriculture, Conservation and Forestry, 18 Elkins Lane/Harlow Building, 4th floor, State House Station 22, Augusta, ME 04333.
Town of Belmont | Town Office, 613 Back Belmont Road, Belmont, ME 04952.
Town of Brooks | Town Hall, 15 Purple Heart Highway, Brooks, ME 04921.
Town of Burnham | Town Office, 247 South Horseback Road, Burnham, ME 04922.
Town of Frankfort | Town Office, 48A Main Road South, Frankfort, ME 04438.
Town of Freedom | Town Hall, 71 Pleasant Street, Freedom, ME 04941.
Town of Islesboro | Town Office, 150 Main Road, Islesboro, ME 04848.
Town of Knox | Town Office, 10 Abbott Road, Knox, ME 04986.
Town of Liberty | Town Hall, Seven Water Street, Liberty, ME 04949.
Town of Lincolnville | Town Office, 493 Hope Road, Lincolnville, ME 04849.
Town of Monroe | Town Hall, Eight Swan Lake Avenue, Monroe, ME 04951.
Town of Montville | Town Hall, 414 Center Road, Montville, ME 04941.
Town of Morrill | Town Hall, 44 Weymouth Road, Morrill, ME 04952.
Town of Northport | Town Office, 16 Beech Hill Road, Northport, ME 04849.
Town of Palermo | Town Hall, 45 North Palermo Road, Palermo, ME 04354.
Town of Prospect | Town Office, 958 Bangor Road, Prospect, ME 04981.
Town of Searsmont | Town Office, 37 Main Street South, Searsmont, ME 04973.
Town of Searsport | Town Office, One Union Street, Searsport, ME 04974.
Town of Stockton Springs | Town Office, 217 Main Street, Stockton Springs, ME 04981.
Town of Swanville | Town Hall, Six Townhouse Road, Swanville, ME 04915.
Town of Thorndike | Town Hall, 125 Mount View Road, Thorndike, ME 04986.
Town of Troy | Town Office, 129 Rogers Road, Troy, ME 04987.
Town of Unity | Town Office, 84 School Street, Unity, ME 04988.
Town of Waldo | Town Office, 629 Waldo Station Road, Waldo, ME 04915.
Town of Winterport | Town Office, 20 School Street, Winterport, ME 04496.
Missoula County, Montana, and Incorporated Areas
Docket No.: FEMA-B-1347
City of Missoula | 435 Ryman Street, Missoula, MT 59802.
Unincorporated Areas of Missoula County | 317 Woody Street, Missoula, MT 59802.
Charles City County, Virginia (All Jurisdictions)
Docket No.: FEMA-B-1412
Unincorporated Areas of Charles City County | Charles City County Department of Public Works, 10900 Courthouse Road, Charles City, VA 23030.

[FR Doc. 2015-11844 Filed 5-14-15; 8:45 am]

BILLING CODE 9110-12-P